DEPARTMENT OF HOMELAND SECURITY

Transportation Security Administration

[Docket No. TSA-2005-20118]

Extension of Agency Information Collection Activity Under OMB Review: Maryland Three Airports: Enhanced Security Procedures at Certain Airports in the Washington, DC Area

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on June 7, 2005, 70 FR 33188.

DATES: Send your comments by October 26, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Maryland-3 Airports: Enhanced Security Procedures at Certain Airports in the Washington, DC Area.

Type of Request: Extension of a currently approved collection.

OMB Control Number: 1652-0029.

Forms(s): Personal Identification Number Issuance Form.

Affected Public: Private pilots desiring to fly to, from, or between the Maryland-3 Airports.

Abstract: Part 1562 of Title 49 of the Code of Federal Regulations (CFR) requires security measures and air traffic control procedures that will protect important national assets in the Washington, DC area, while allowing the Maryland-3 airports (College Park Airport (CGS), Potomac Airfield (VKX), and Washington Executive/Hyde Field (W32)) to resume flight operations. In compliance, TSA requires that all individuals or entities who seek to fly a general aviation aircraft from, to, or between these three airports submit personal information to TSA and fingerprints for criminal history records check. With this information, the Federal Bureau of Investigation (FBI) can conduct a background investigation to determine whether the applicant can be permitted to fly to, from, or between the Maryland-3 airports. This program was put into effect as a result of the September 11, 2001, terrorist attacks with the intent of creating greater safety for the Washington, DC airspace.

During this process TSA will collect the following information and make the following determinations regarding the applicants:

• Personal information from applicants, including full name, Social Security Number, address, telephone number, date of birth, and airman certificate number. (Provision of a Social Security Number is voluntary, but encouraged.)

• Applicants must submit other information, such as aircraft make/model, Federal Aviation Administration (FAA) Registration number, and the name, telephone number, and signature of the appropriate FAA Flight Standards District Office (FSDO) Official.

• The applicant must submit this information to either the Maryland-3 airport from which the applicant wishes to fly, or directly to TSA. The Personal Information form is available on the TSA Web site at: http://www.tsa.gov/interweb/assetlibrary/pin_issuance_form.pdf. Alternately, applicants can visit http://www.tsa.gov, click on “Travelers and Consumers,” then “Air Travel,” then “General Aviation,” then “Maryland Three Airports,” and finally click “PIN Issuance Form.”

• Agents of the Metropolitan Washington Airports Authority at Ronald Reagan Washington National Airport will collect each applicant's fingerprints. Applicants must go to this airport to submit their fingerprints.

• The FAA will make a determination whether the applicant's airman credentials are valid and that the holder has not been involved in certain kinds of aviation-related incidents. Applicants must present themselves in person at one of the specified FAA Flight Standards District Offices (FSDO) for this determination. The FBI will check applicants' fingerprints for any linked past criminal history, and the FAA will check its records to determine whether the applicants' records contain any aviation-related transgressions. Should either the FBI or FAA find discrepancies in an applicant's record, further adjudication will be necessary by TSA.

• When an applicant is satisfactorily vetted, TSA will issue the applicant a Personal Identification Number (PIN) that will permit him/her to fly to, from, or between the Maryland-3 airports.

Number of Respondents: 400.

Estimated Annual Burden Hours: An estimated 1172.7 hours annually.

Issued in Arlington, Virginia, on September 19, 2005.
Lisa S. Dean,
Privacy Officer.

[FR Doc. 05-19090 Filed 9-23-05; 8:45 am]

BILLING CODE 4910-62-P